DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of February and March 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-41,406; Siemens ICN, Lake Mary, FL

TA-W-42,041; Mo-Tech Corp., Oakdale, MN

In the following case, the investigation revealed that the criteria for eligibility have not been met for the reasons specified.

The investigation revealed that criterion (a)(2)(A) (I.C.) (Increased imports) and (a) (2)(B) (II.B) (No shift in production to a foreign country) have not been met.

TA-W-50,106; Profile Group LLC, Coldwater, MI

TA-W-50,862; Fishing Vessel (F/V) Silver Eagle, Dillingham, AK

TA-W-50,745; Monaco Coach Corp., Bend, OR

TA-W-50,841; Fishing Vessel (F/V) Lynn C, Port Heiden, AK

TA-W-50,717; Fishing Vessel (F/V) Echo 3, Clarks Point, AK

TA-W-50,638; Golding View Fisheries, Inc., Anchorage, AK

TA-W-50,618; Fishing Vessel (F/V) Lila-L, Naknek, AK

TA-W-50,611; Acme Electronics, LLC, Cuba, NY

TA-W-50,503; Fishing Vessel (F/V) Kirsten Marie, Port Heiden, AK

The workers firm does not produce an article as required for certification under Section 222 of the Trade Act of 1974.

TA-W-50,804; Aetna, Inc., Allentown, PA

TA-W-50,910; Managed Business Solutions, Fort Collins CO

TA-W-50,861; Andrew Corp., Glen Rock, PA

TA-W-50,635; Science Applications International Corp., Energy Technologies and Service Group, Anchorage, AK

TA-W-50.894; Electronic Data Systems Corp., Albuquerque, NM

The investigation revealed that criteria (2) has not been met. The workers' firm (or subdivision) is not an upstream supplier or components for trade-affected companies.

TA-W-50,498; Ram Tool Co., Inc., Conneaut Lake, PA

The investigation revealed that criterion (a)(2)(A) (I.A) (no employment declines) has been met.

TA-W-50,641; Shipley, LLC, a Div. of Rohm and Hass Co., Marlboro, MA

The investigation revealed that criterion (a)(2) (I.A.) (No employment declines) and (a)(2)(B) (No shift in production to a foreign country) have been met.

TA-W-50,675; Springfield Wire, Inc., Springfield, MA

Affirmative Determinations for Worker Adjustment Assistance

The following certifications have been issued; the date following the company name and location of each determination references the impact date for all workers of such determination.

TA-W-41,617; American Paper Mills of Vermont, Gilman, VT: May 28, 2001

The following certifications have been issued. The requirements of (a)(2)(A) (increased imports) of Section 222 have been met.

TA-W-50,188; JDS Uniphase, West Trenton, NJ: November 14, 2001

TA-W-50,891; OSRAM Sylvania, Electronic Control Systems, Lake Zurich, IL: February 11, 2002

TA-W-50,866; AstenJohnson, Inc., Jonesboro Dryer Div., Jonesboro, GA: February 6, 2002

TA-W-50,806; Levolor Kirsch Window Fashions, a Div. of Newell Rubbermaid, Ogden, UT: February 5, 2002

TA-W-50,724; Zimmerman Sign Co., Longview, TX: January 28, 2002

TA-W-50,673; Monterey, Inc., Cowan, TN: January 16, 2002

TA-W-50,699; Jideco of Bardstown, Inc., Bardstown, KY: January 22, 2002

TA-W-50,572; Scott Mills, Gastonia, NC: January 8, 2002

TA-W-50,513; Sherwood Harsco Corp., Gas & Fluid Control Group, Washington, PA: January 6, 2002

TA-W-50,506; Consolidated Metco, Div. of Amsted Industries, Clackamas, OR: December 10, 2001

TA-W-50,370; Ultimate Tool, Inc., Erie, PA: December 18, 2001

TA-W-50,052; Westab, Meadwestvaco Corp., Forton Royal, VA November 5, 2001

TA-W-50,869; Lear Corp., Grand Rapids-Alpine Div., Grand Rapids, MI: February 7, 2002

TA-W-50,973; Graftech International, formerly UCAR Carbon Co., Clarksville, TN: February 24, 2002

TA-W-50,941 & A; Harting, Inc., Elgin, IL and Harting, Inc. of North America, Elgin, IL: February 14, 2002

TA-W-50,908; Halliburton Formation Evaluation Machine Shop, Alvarado, TX: February 13, 2002

TA-W-50,875; Rockford Powertrain Co., Loves Park, IL: February 12, 2002

TA-W-50,830; Tyco Plastics, LP, Louisville, Facility, Louisville, KY: January 29, 2002

TA-W-50,735; Kincaid Furniture Co., Inc., Lenoir, NC: January 27, 2002

TA-W-50,648; Isaac Hazan and Co., The Hazan Group, Secaucus, NJ: January 10, 2002

TA-W-50,567; Firmenich, Inc., Patillas, PR: January 7, 2002

TA-W-50,426; B.I. Transportation, Inc., Burlington, NC: December 27, 2001

TA-W-50,091; Polar Equipment, Inc., d/b/a Cook Inlet Processing, Kodiak, AK: November 14, 2001

The following certifications have been issued. The requirements of (a)(2)(B) (shift in production) of Section 222 have been met.

TA-W-50,141; Tecumseh Products Co. including leased workers of Flexstaff and Waterstone Group, New Holstein, WI: November 11, 2001

TA-W-50,822; Henlopen Manufacturing Co., Inc., Techpack International Div. of Pechiney, Watertown, CT, including contract workers of Jaci Carroll Staffing, Watertown, CT: January 30, 2002

TA-W-50,787; Tinnerman Palnut Engineered Products, LLC, Massillon, OH: January 31, 2002

TA-W-50,732; Delphax Technologies, Inc., Minnetonka, MN January 27, 2002

TA-W-50,656; Evenflo Co., Inc., Suring WI: January 22, 2002

TA-W-50,655; Evenflo Co., Inc., Ball Ground, GA: January 22, 2002

TA-W-50,647; General Electric Corp., Euclid, OH: January 22, 2002

TA-W-50,644; Newell Rubbermaid, Levolor-Kirsch Window Fashions, High Point, NC: January 20, 2002

TA-W-50,436; Amcor White Cap LLC, Chicago Manufacturing Facility, Chicago, IL: December 17, 2001

TA-W-50,913; Sony Electronics, Display Systems Service Center, Mt. Pleasant, PA: February 3, 2002

TA-W-50,928; Preferred Fabricators, Inc., Helenwood, TN: February 11, 2002

TA-W-50,839; Fishing Vessel (F/V) Seamaid, Nushagak, AK: Janaury 28, 2002

TA-W-50,636; Fishing Vessel (F/V) Indiana, Ketchikan, AK: January 21, 2002

TA-W-50,627; Fishing Vessel (F/V) Flue Angel, Bristol Bay, AK: January 20, 2002

TA-W-50,601; Valeo Switches and Detection Systems, Ft. Worth, TX: January 13, 2002

TA-W-50,497; C-COR.net Corp., Manlius, NY: January 2, 2002

Also, pursuant to Title V of the North American Free Trade Agreement Implementation Act (Pub. L. 103-182) concerning transitional adjustment assistance hereinafter called (NAFTA-TAA) and in accordance with section 250(a), subchaper D, chapter 2, title II, of the Trade Act as amended, the Department of Labor presents summaries of determinations regarding eligibility to apply for NAFTA-TAA issued during the month of February and March 2003.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06117; Texfi Industries, Inc., New York, NY

NAFTA-TAA-06502; Mo-Tech Corp., Oakdale, MN

NAFTA-TAA-06151; Grand Processing, Inc., Textile Div., Brooklyn, NY

The investigation revealed that the criteria for eligibility have not been met for the reasons specified.

The investigation revealed that the workers of the subject firm did not produce an article within the meaning of Section 250(a) of the Trade Act, as amended.

NAFTA-TAA-07618; Alcatel USA Marketing, Inc, Voice Network Div. (VND), Wireline Access Product Group, Litespan 2000 Product Group, Plano, TX

Affirmative Determinations NAFTA-TAA

NAFTA-TAA-06293; Micro Molding Technologies, Boynton Beach, FL: June 17, 2001

NAFTA-TAA-07656; Sequoia Apparel, Inc., Porterville, CA: October 25, 2001

I hereby certify that the aforementioned determinations were issued during the months of February and March 2003. Copies of these determinations are available for inspection in Room C-5311, U.S. Department of Labor, 200 Constitution Avenue, NW., Washington, DC 20210 during normal business hours or will be mailed to persons who write to the above address.

Dated: March 7, 2003.
Edward A. Tomchick,
Director, Division of Trade Adjustment Assistance.

[FR Doc. 03-6561 Filed 3-18-03; 8:45 am]

BILLING CODE 4510-30-P